DEPARTMENT OF ENERGY

Federal Energy Regulatory Commission

Combined Notice of Filings

Take notice that the Commission has received the following Natural Gas Pipeline Rate and Refund Report filings:

Docket Numbers: RP20-1051-000.

Applicants: Ruby Pipeline, L.L.C.

Description: § 4(d) Rate Filing: FLU and EPC Recomputation Update Filing to be effective 9/1/2020.

Filed Date: 7/30/20.

Accession Number: 20200730-5042.

Comments Due: 5 p.m. ET 8/11/20.

Docket Numbers: RP20-1052-000.

Applicants: Sierrita Gas Pipeline LLC.

Description: § 4(d) Rate Filing: Quarterly FL&U FiIling to be effective 9/1/2020.

Filed Date: 7/30/20.

Accession Number: 20200730-5072.

Comments Due: 5 p.m. ET 8/11/20.

Docket Numbers: RP20-1053-000.

Applicants: Wyoming Interstate Company, L.L.C.

Description: § 4(d) Rate Filing: Update of FLU Reimbursement Percentages to be effective 9/1/2020.

Filed Date: 7/30/20.

Accession Number: 20200730-5117.

Comments Due: 5 p.m. ET 8/11/20.

Docket Numbers: RP20-1054-000.

Applicants: Rockies Express Pipeline LLC.

Description: § 4(d) Rate Filing: REX 2020-07-30 Non-Conforming Negotiated Rate Amendment to be effective 8/1/2020.

Filed Date: 7/30/20.

Accession Number: 20200730-5130.

Comments Due: 5 p.m. ET 8/11/20.

Docket Numbers: RP20-1055-000.

Applicants: Columbia Gas Transmission, LLC.

Description: § 4(d) Rate Filing: Vermillion Power NR/NC Agreement Filing to be effective 9/1/2020.

Filed Date: 7/30/20.

Accession Number: 20200730-5137.

Comments Due: 5 p.m. ET 8/11/20.

Docket Numbers: RP20-1056-000.

Applicants: Transcontinental Gas Pipe Line Company.

Description: § 4(d) Rate Filing: Negotiated Rates—Cherokee AGL—Replacement Shippers—Aug 2020 to be effective 8/1/2020.

Filed Date: 7/30/20.

Accession Number: 20200730-5152.

Comments Due: 5 p.m. ET 8/11/20.

Docket Numbers: RP20-1057-000.

Applicants: Transcontinental Gas Pipe Line Company.

Description: § 4(d) Rate Filing: SS-2 Clean-Up Filing to be effective 5/1/2020.

Filed Date: 7/31/20.

Accession Number: 20200731-5012.

Comments Due: 5 p.m. ET 8/12/20.

Docket Numbers: RP20-1058-000.

Applicants: Algonquin Gas Transmission, LLC.

Description: § 4(d) Rate Filing: Non-Conforming Filing—Boston Gas contract 9221 to be effective 8/1/2020.

Filed Date: 7/31/20.

Accession Number: 20200731-5013.

Comments Due: 5 p.m. ET 8/12/20.

Docket Numbers: RP20-1059-000.

Applicants: Midcontinent Express Pipeline LLC.

Description: § 4(d) Rate Filing: Disposition of Net Cashout Balance Filing to be effective 9/1/2020.

Filed Date: 7/31/20.

Accession Number: 20200731-5014.

Comments Due: 5 p.m. ET 8/12/20.

Docket Numbers: RP20-1060-000.

Applicants: Columbia Gas Transmission, LLC.

Description: § 4(d) Rate Filing: Columbia Gas Section 4 Rate Case (1 of 4) to be effective 9/1/2020.

Filed Date: 7/31/20.

Accession Number: 20200731-5015.

Comments Due: 5 p.m. ET 8/12/20.

Docket Numbers: RP20-1061-000.

Applicants: Kinder Morgan Louisiana Pipeline LLC.

Description: § 4(d) Rate Filing: Modification to Tariff Filing to be effective 9/1/2020.

Filed Date: 7/31/20.

Accession Number: 20200731-5020.

Comments Due: 5 p.m. ET 8/12/20.

Docket Numbers: RP20-1062-000.

Applicants: Gulf South Pipeline Company, LLC.

Description: § 4(d) Rate Filing: Neg Rate Agmt (Southern 52143) to be effective 8/1/2020.

Filed Date: 7/31/20.

Accession Number: 20200731-5054.

Comments Due: 5 p.m. ET 8/12/20.

Docket Numbers: RP20-1063-000.

Applicants: Gulf South Pipeline Company, LLC.

Description: § 4(d) Rate Filing: Cap Rel Neg Rate Agmts (Atlanta Gas 8438 releases eff 8-1-2020) to be effective 8/1/2020.

Filed Date: 7/31/20.

Accession Number: 20200731-5056.

Comments Due: 5 p.m. ET 8/12/20.

Docket Numbers: RP20-1064-000.

Applicants: Tennessee Gas Pipeline Company, L.L.C.

Description: § 4(d) Rate Filing: Abandonment of X-48 in Volume No.2 to be effective 9/1/2020.

Filed Date: 7/31/20.

Accession Number: 20200731-5074.

Comments Due: 5 p.m. ET 8/12/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Nathaniel J. Davis, Sr.,
Deputy Secretary.

[FR Doc. 2020-17194 Filed 8-5-20; 8:45 am]

BILLING CODE 6717-01-P